DEPARTMENT OF HEALTH AND HUMAN SERVICES

Centers for Disease Control and Prevention

[Program Announcement 03030]

Controlling Asthma in American Cities Project Phase II-Intervention Implementation; Notice of Availability of Funds

Application Deadline: July 7, 2003.

A. Authority and Catalog of Federal Domestic Assistance Number

This program is authorized under section 301 and 317 of the Public Health Service Act, (42 U.S.C. 241 and 247b), as amended. The Catalog of Federal Domestic Assistance number is 93.283.

B. Purpose

The Centers for Disease Control and Prevention (CDC) announces the availability of fiscal year (FY) 2003 funds for a cooperative agreement program for the Controlling Asthma in American Cities Project (CAACP). This program addresses the “Healthy People 2010” focus area of Respiratory Diseases.

The purpose of the program is to build on the planning phase of CAACP (including the experience and skills gained from the pilot testing of intervention approaches) to improve overall asthma management and decrease asthma-related morbidity among children (0-18 years) in a previously defined urban population with a large and unmet asthma control need.

Measurable outcomes of the program will be in alignment with the following performance goal for the National Center for Environmental Health: Reduce the burden of asthma.

C. Eligible Applicants

Assistance will only be provided to currently funded recipients from CDC Program Announcement Number 01117, Controlling Asthma in American Cities Project, Phase I Planning. Refer to Attachment II for a list of currently funded recipients. All attachments referenced in this announcement are posted with the announcement on the CDC Web site, Internet address: http://www.cdc.gov. Click on “Funding,” then “Grants and Cooperative Agreements.”

Program Announcement Number 01117 was for the two-year planning phase of this project, while this announcement is competitive among planning phase awardees for implementation of intervention activities. Program Announcement Number 01117 stated: “Depending on the availability of funds, a new competitive announcement, limited to Phase I awardees, may be announced in the future that will implement the intervention activities.” No other applications are solicited.

Note: Title 2 of the United States Code section 1611 states that an organization described in section 501(c)(4) of the Internal Revenue Code that engages in lobbying activities is not eligible to receive Federal funds constituting an award, grant or loan.

D. Funding

Availability of Funds

Approximately $4 million is available in FY 2003 to fund approximately five to seven awards. It is expected that the average award will be $700,000, ranging from $500,000 to $800,000. It is expected that the awards will begin on or about September 15, 2003 and will be made for a 12-month budget period within a project period of up to five years. Funding estimates may change.

Continuation awards within an approved project period will be made on the basis of satisfactory progress as evidenced by required reports and the availability of funds.

Recipient Financial Participation

Matching funds are not required for this program.

Funding Preferences

Funding preferences may include: (1) Geographic distribution; (2) minority populations with disproportionate asthma burden; and (3) a balance of proposed intervention strategies.

E. Program Requirements

In conducting activities to achieve the purpose of this program, the recipient will be responsible for the activities under 1. Recipient Activities, and CDC will be responsible for the activities listed under 2. CDC Activities.

1. Recipient Activities

a. Describe and implement the community asthma action plan developed during the planning period. The plan should be detailed and include time-phased intervention objectives that are tied to the asthma objectives in Healthy People 2010. The plan should be feasible from a programmatic implementation perspective and from a cost perspective. The plan should address sustainability issues (i.e., the institutionalization of intervention activities), as well as encourage community capacity building and empowerment.

b. Conduct a comprehensive evaluation of the entire project using CDC's framework for program evaluation as a guide. As part of this, recipients will monitor and evaluate progress in implementing the community-based asthma action plan and measure the long-term population-based impact of the project on the health of the communities of focus.

c. Continue collaboration with broad community representation and support in implementing, modifying, evaluating, and ultimately sustaining the project.

d. Serve as a resource for other asthma control projects.

e. Document and disseminate experiences in working as a collaborative/coalition and in implementing the project interventions.

f. Formally summarize project activities, progress in reaching project objectives, and general insights/lessons every six months to local partners and to CDC.

g. Work with CDC or its contractors to package and disseminate effective interventions developed and/or tested as part of CAACP.

h. Participate annually in a CDC-organized meeting of CAACP grantees and key stakeholders.

2. CDC Activities

a. Provide technical assistance in the development of intervention strategies, communication and policy issues, and the interpretation of the scientific literature related to asthma management and control.

b. Provide liaison among grantees and identify potential sources of information and assistance.

c. Coordinate activities among sites, when appropriate.

d. Provide leadership in development of a comprehensive evaluation plan of CAACP as a whole and provide technical assistance to all grantee sites regarding appropriate evaluation strategies and specific evaluation tools.

e. Convene meetings among grantees, collaborators, and key stakeholders to discuss findings and improve outcomes.

f. Assist with the interpretation and dissemination of interim and final project findings and lessons. This may include coordinating one or more publishable reports related to project activities/findings.

g. If applicable, assist in the development of a research protocol for Institutional Review Board (IRB) review by all cooperating institutions participating in the research project. If applicable, the CDC IRB will review and approve the protocol initially and on at least an annual basis until the research project is completed.

F. Content

Applications

The Program Announcement title and number must appear in the application. Use the information in the Program Requirements, Other Requirements, Evaluation Criteria, and this Content section to develop the application content. Additional guidance/clarification is provided in Attachment III. The application will be evaluated on the criteria listed, so it is important to follow them in laying out the program plan. The narrative should be no more than 25 pages, double-spaced, printed on one side, with one-inch margins, and unreduced 12-point font. In addition to the application forms, the application must contain the following in this order:

1. Table of Contents: A table of contents that provides page numbers for each of the following sections should be included.

2. Project Narrative: The narrative must contain the following sections:

a. Overview of the assets, attributes, and deficiencies of the communities of focus (i.e., describing the public health and community environment in which CAACP is working, including a description of any community assessments or asset mapping done in the past three years).

b. Summary of asthma-related activities and issues unique to your communities of focus that directly or indirectly impact CAACP planning and implementation activities (i.e., a description of asthma-specific activities not directly funded by CAACP that have occurred or are ongoing in the communities of focus).

c. Description of project organization, staffing, active collaboration, and community support.

d. Summary of the activities of the two-year planning period.

e. Description and justification of the community-based, intervention-phase asthma action plan to be implemented over the next five years.

f. Description of the comprehensive evaluation plan including a summary of the baseline data already collected during the planning phase.

G. Submission and Deadline

Application Forms

Submit the signed original and two copies of PHS 5161-1 (OMB Number 0920-0428). Forms are available at the following Internet address: www.cdc.gov/od/pgo/forminfo.htm.

If you do not have access to the Internet, or if you have difficulty accessing the forms on-line, you may contact the CDC Procurement and Grants Office Technical Information Management Section (PGO-TIM) at: 770-488-2700. Application forms can be mailed to you.

Submission Date, Time, and Address

The application must be received by 4 p.m. Eastern Time, July 7, 2003.

Submit the application to: Technical Information Management-PA#03030, Procurement and Grants Office, Centers for Disease Control and Prevention, 2920 Brandywine Rd., Atlanta, GA 30341-4146.

Applications may not be submitted electronically.

CDC Acknowledgement of Application Receipt

A postcard will be mailed by PGO-TIM, notifying you that CDC has received your application.

Deadline

Applications shall be considered as meeting the deadline if they are received before 4 p.m. Eastern Time on the deadline date. Any applicant who sends their application by the United States Postal Service or commercial delivery services must ensure that the carrier will be able to guarantee delivery of the application by the closing date and time. If an application is received after closing due to (1) carrier error, when the carrier accepted the package with a guarantee for delivery by the closing date and time, or (2) significant weather delays or natural disasters, CDC will upon receipt of proper documentation, consider the application as having been received by the deadline.

Any application that does not meet the above criteria will not be eligible for competition, and will be discarded. The applicant will be notified of their failure to meet the submission requirements.

H. Evaluation Criteria

Applicants are required to provide measures of effectiveness that will demonstrate the accomplishment of the various identified objectives of the cooperative agreement. Measures of effectiveness must relate to the performance goals as stated in the purpose section of this announcement. Measures must be objective and quantitative and must measure the intended outcome. These measures of effectiveness shall be submitted with the application and shall be an element of evaluation.

A peer review group appointed by CDC may conduct site visits or reverse site visits, as a part of their review of the applications and, if conducted, will use the results of these visits as well as application content addressing the following criteria:

1. The Community-focused, Intervention-phase Asthma Action Plan (40 percent).

The aim of this plan should be to reduce the burden of asthma among children ranging from newborn to 18 years of age, throughout the pre-selected communities of focus. The plan will be evaluated on the following criteria.

a. The detail to which the plan is described.

b. The likely effectiveness of the individual intervention strategies as well as the plan as a whole. This includes the estimated efficacy of each intervention (how much it will reduce asthma morbidity and/or improve quality of life), the likely reach of each intervention (percentage of the community under 18 years of age likely to be engaged/impacted by the intervention), and the potential synergy created by the intertwining of interventions. While all are essential, the project is especially interested in determining the combined effectiveness of interventions that together have a high degree of community reach and participation.

c. The feasibility of the plan from a program implementation perspective, and from a cost/economic perspective. Included in this should be an estimate of how long it will take to fully implement the plan, with the idea that the quicker the intervention can be implemented effectively and efficiently, the better.

d. The degree to which pilot testing, previous community experience, and/or the science of effective asthma interventions were used/are being used to create the plan and its details.

e. The degree to which the plan reflects and builds on a mature and comprehensive understanding of the assets, attributes, and deficiencies of the communities of focus including non-CAACP asthma activities completed or ongoing in these communities.

f. The degree of community participation in the plan. The following questions should be addressed: Is there documentation of community participation in the development of the plan? Does the plan encourage community capacity building and empowerment? Do community partners play a large role in the implementation period and does this empower or build capacity within the community?

g. Approach to sustainability issues. This includes a discussion of what needs to happen to make the intervention strategies sustainable after project funding is finished, how likely it is that this will occur, and what project staff and partners are doing or planning to do to make this happen.

h. The value of the community asthma action plan and the individual intervention strategies from a broader scientific and community public health perspective. In other words, are the strategies innovative and ambitious enough to stretch our understanding of asthma control and community health?

i. Ability to replicate the community asthma action plan in other cities or expand into new neighborhoods within the same city. This includes the degree to which the individual intervention strategies will likely be attractive to other communities (i.e., cost-feasible, resource-feasible, and reproducible).

2. Project organization, staffing, active collaboration and community support (30 percent). Projects will be judged on the following:

a. The diversity of individuals and organizations involved in the project.

b. The competence and community leadership potential of those actively engaged and participating in the project.

c. The depth of expertise (both formal expertise and significant past hands-on experience) in all areas critical to the project's success.

d. The overall competence, leadership, and vision of the principal investigator(s) and project coordinator(s). This is based, in part, on their individual skills/experience with a community-based team approach to decision-making and problem solving.

e. The ability of project staff and collaborators to communicate openly and easily, to understand each other's roles, and to make optimal project-related decisions. This will be based, in part, on the project's organizational structure and decision-making procedures developed and practiced over the two-year planning period.

f. The commitment of the collaborating individuals and especially, organizations. This includes the degree to which project collaborators have taken ownership or plan to take ownership of the project.

g. The effort made by project staff and collaborators to involve grassroots community members and/or representatives in a meaningful way.

h. The project's effectiveness in creating community awareness and interest in asthma and the project, in particular.

i. The prospect of sustaining the collaborative partnership beyond the project period and even beyond childhood asthma as the public health focus. This includes an assessment of how the project interacts with other existing community projects and coalitions in the region.

3. Evaluation Plan (20 percent).

Projects will be judged on the following:

a. Outcome-based Evaluation Strategies. The overall evaluation plan should be designed to measure the impact of the project's activities and interventions as a whole on the targeted communities' population of children and/or teens with asthma. Evaluation strategies aimed at measuring the impact of a single, specific intervention are important but remain secondary to measuring the project's overall population-based impact. Evaluation strategies that incorporate some or all of the following outcome measures (but not necessarily limited to the following) are suggested:

(1) Hospitalization data (ideally starting a minimum of three years prior to the onset of intervention activities to allow for trend analyses, and with comparable data from outside the communities of focus for comparison).

(2) Emergency care data (as above if possible).

(3) School absenteeism (all causes in those identified as having asthma or asthma-specific absenteeism).

(4) Quality of life and/or asthma symptom surveys (if a non-biased sample can be identified and obtained).

(5) Asthma medications (i.e., the ratio of rescue to controller medication prescriptions filled).

(6) Asthma care visits (i.e., ratio of scheduled to unscheduled visits, or number of asthma maintenance visits per year).

(7) Changes in community empowerment and/or active participation in community health (as measured by a validated instrument in a non-biased sample of the community).

b. Comprehensive Evaluation Plan: Applicants will be judged on how well they have articulated an evaluation plan that complements the outcome-based measures described above (section H2a) and is likely to be useful in understanding and/or measuring the following: (1) The dynamics of the collaborative process, including decision making; (2) the general effectiveness of the collaborative in helping to create, implement, and sustain community interventions; (3) the relationship between the project/collaborative and the community it seeks to serve; (4) the reach of project activities in the communities of focus; (5) the effectiveness of specific intervention components; (6) the cost and resource feasibility of specific intervention components; and (7) the impacts of the project and/or collaborative on the community outside of its specific impacts on asthma.

The evaluation plan will be additionally judged on the degree to which: (1) The project's stakeholders have been identified; (2) their perspectives and evaluation needs are reflected in the plan; and (3) the evaluation plan is cost and resource feasible.

c. Baseline comprehensive evaluation data collected, organized, and/or analyzed during the two-year planning phase with an emphasis on the following: (1) The proportion of baseline data needed for the proposed comprehensive evaluation already collected and analyzed; (2) the likelihood that the baseline data not yet collected will be collected and analyzed in the near future; (3) the quality of the data and the data analysis reports already collected and/or analyzed; and (4) the adequacy of the collected or soon-to-be collected data as a baseline for the proposed comprehensive evaluation.

d. Does the application adequately address the CDC Policy requirements regarding the inclusion of women, ethnic, and racial groups in the proposed research? These include:

(1) The proposed plan for the inclusion of both sexes and racial and ethnic minority populations for appropriate representation.

(2) The proposed justification when representation is limited or absent.

(3) A statement as to whether the design of the study is adequate to measure differences when warranted.

(4) A statement as to whether the plans for recruitment and outreach for the study participants includes the process of establishing partnerships with community(s) and recognition of mutual benefits.

4. Use of the Planning Period (10 percent).

The project will be judged on how well it made use of the two-year planning period (accountability). The following planning period activities should be considered in this overall evaluation of the activities undertaken to date. (Of note: Planning phase activities specifically related to the organization of the collaborative aspects of the project will not be included in this section. These activities will instead be incorporated into the score for section 2. “Project organization, staffing, active collaboration, and community support” above).

a. The development of a well-articulated, plausible vision for the project that meets the needs of stakeholders and collaborators.

b. The degree to which planning phase goals and objectives were clearly defined, improved upon (as needed), and achieved.

c. The degree to which piloting of project ideas took place and were well focused and well designed.

d. The degree to which the project staff and partners learned from these piloting experiences (i.e., were they evaluated in a way meaningful to the project).

e. The quality and usefulness of project-related materials (educational materials, training manuals, resource banks, clinical referral lists, etc.) created, identified, and/or organized during the planning period.

f. The degree to which the staff/collaborators acquired clearly defined skills (i.e., via training) that helped or will help in the creation and/or implementation of intervention strategies.

g. The degree to which baseline assessments (i.e., community health assessments, asset mapping, focus groups, key informant interviews, survey data, utilization data, etc.) and/or process evaluation (of the planning period) were effectively utilized by project staff, partners, and other community stakeholders.

h. The degree to which the planning period was useful in developing a more accurate and richer understanding of the assets, attributes, and deficiencies of the communities of focus as well as the asthma-related activities/issues in these communities (outside of CAACP).

5. Budget (not scored)

The extent to which the budget is clearly detailed, justified, and appropriate for the activities proposed.

The applicant should include costs for one person to travel to Atlanta, GA to attend the sixth National Environmental Health Conference, December 3-5, 2003. Review the CDC/NCEH Web site for additional information concerning this conference: http://www.cdc.gov/nceh/default.htm.

6. Human Subjects (not scored)

Does the application adequately address the requirements of Title 45 CFR part 46 for the protection of human subjects? (Not scored; however, an application can be disapproved if the research risks are sufficiently serious and protection against risks is so inadequate as to make the entire application unacceptable.)

I. Other Requirements

Technical Reporting Requirements

Provide CDC with original plus two copies of:

1. Interim progress report, no less than 90 days before the end of the budget period. The progress report will serve as the non-competing continuation application, and must contain the following elements:

a. Current Budget Period Activities Objectives.

b. Current Budget Period Financial Progress.

c. New Budget Period Program Proposed Activity Objectives.

d. Detailed Line-Item Budget and Justification.

e. Additional Requested Information.

2. Financial status report, no more than 90 days after the end of the budget period.

3. Final financial and performance reports, no more than 90 days after the end of the project period.

Send all reports to the Grants Management Specialist identified in the “Where To Obtain Additional Information” section of this announcement.

Additional Requirements

The following additional requirements are applicable to this program. For a complete description of each, see Attachment I of the program announcement as posted on the CDC Web site.

AR-1 Human Subjects Requirements

AR-2 Requirements for Inclusion of Women and Racial and Ethnic Minorities in Research

AR-7 Executive Order 12372 Review

AR-8 Public Health System Reporting Requirements

AR-9 Paperwork Reduction Act Requirements

AR-10 Smoke-Free Workplace Requirements

AR-11 Healthy People 2010

AR-12 Lobbying Restrictions

Office of Management and Budget Clearance

Projects that involve the collection of information from 10 or more individuals and funded by cooperative agreement will be subject to review and approval by the Office of Management and Budget (OMB) under the Paperwork Reduction Act.

J. Where To Obtain Additional Information

This and other CDC announcements, the necessary applications, and associated forms can be found on the CDC Web site, Internet address: http://www.cdc.gov.

Click on “Funding” then “Grants and Cooperative Agreements”.

For general questions about this announcement, contact: Technical Information Management, CDC Procurement and Grants Office, 2920 Brandywine Rd., Atlanta, GA 30341-4146, Telephone: (770) 488-2700.

For business management and budget assistance, contact: Mildred Garner, Grants Management Officer, Procurement and Grants Office, Centers for Disease Control and Prevention, 2920 Brandywine Road, Atlanta, GA 30341-4146, Telephone: (770) 488-2745, e-mail address: Mgarner@cdc.gov.

For program technical assistance, contact: Michael Friedman, M.D., Air Pollution and Respiratory Health Branch, National Center for Environmental Health, Centers for Disease Control and Prevention, 1600 Clifton Road, NE., MS E-17, Atlanta, GA 30333, Telephone Number: (404) 498-1028, e-mail address: mff7@cdc.gov.

Dated: June 2, 2003.
Edward Schultz,
Acting Director, Procurement and Grants Office, Centers for Disease Control and Prevention.

[FR Doc. 03-14271 Filed 6-5-03; 8:45 am]

BILLING CODE 4163-18-P